DEPARTMENT OF ENERGY

Federal Energy Regulatory Commission

[Project No. 2277-023]

Union Electric Company (dba Ameren Missouri); Notice of Application Ready for Environmental Analysis and Soliciting Comments, Recommendations, Terms and Conditions, and Prescriptions

Take notice that the following hydroelectric application has been filed with the Commission and is available for public inspection.

a. Type of Application: New Major License.

b. Project No.: 2277-023.

c. Date filed: June 24, 2008.

d. Applicant: Union Electric Company (dba Ameren Missouri).

e. Name of Project: Taum Sauk Pumped Storage Project.

f. Location: On the East Fork of the Black River in Reynolds County, Missouri. The project does not occupy federal lands.

g. Filed Pursuant to: Federal Power Act 16 U.S.C. 791 (a)-825(r).

h. Applicant Contact: Michael O. Lobbig, P.E., Managing Supervisor, Hydro Licensing, Ameren Missouri, 3700 S. Lindbergh Blvd, St. Louis, MO 63127; telephone 314-957-3427; e-mail at mlobbig@ameren.com.

i. FERC Contact: Janet Hutzel, 202-502-8675, janet.hutzel@ferc.gov.

j. Deadline for filing comments, recommendations, terms and conditions, and prescriptions: 60 days from the issuance date of this notice; reply comments are due 105 days from the issuance date of this notice.

All documents may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support at FERCOnlineSupport@ferc.gov or toll free at 1-866-208-3676, or for TTY, (202) 502-8659. Although the Commission strongly encourages electronic filing, documents may also be paper-filed. To paper-file, mail an original and seven copies to: Kimberly D. Bose, Secretary, Federal Energy Regulatory Commission, 888 First Street, NE., Washington, DC 20426.

The Commission's Rules of Practice require all intervenors filing documents with the Commission to serve a copy of that document on each person on the official service list for the project. Further, if an intervenor files comments or documents with the Commission relating to the merits of an issue that may affect the responsibilities of a particular resource agency, they must also serve a copy of the document on that resource agency.

k. This application has been accepted, and is ready for environmental analysis at this time.

l. The existing Taum Sauk Pumped Storage Project consists of: (1) A lower reservoir impounded by a concrete gravity dam downstream of the confluence of the East Fork Black River and Taum Sauk Creek; (2) an upper reservoir on the top of Proffit Mountain impounded by a rebuilt roller-compacted concrete dam; (3) vertical shaft, rock and concrete-lined tunnel sections, and a penstock conduit; (4) a pump-generating plant with two reversible pump units and two motor generators with a total installed capacity of 408 megawatts; (5) an excavated tailrace and open channel to the lower reservoir; (6) a 138-kilovolt switchyard/substation; (7) a gravel and sedimentation trap (bin wall) on the East Fork of the Black River; and (8) associated ancillary equipment.

m. A copy of the application is available for review at the Commission in the Public Reference Room or may be viewed on the Commission's Web site at http://www.ferc.gov using the “eLibrary” link. Enter the docket number excluding the last three digits in the docket number field to access the document. For assistance, contact FERC Online Support. A copy is also available for inspection and reproduction at the address in item h above.

All filings must (1) bear in all capital letters the title “COMMENTS”, “REPLY COMMENTS”, “RECOMMENDATIONS,” “TERMS AND CONDITIONS,” or “PRESCRIPTIONS;” (2) set forth in the heading the name of the applicant and the project number of the application to which the filing responds; (3) furnish the name, address, and telephone number of the person submitting the filing; and (4) otherwise comply with the requirements of 18 CFR 385.2001 through 385.2005. All comments, recommendations, terms and conditions or prescriptions must set forth their evidentiary basis and otherwise comply with the requirements of 18 CFR 4.34(b). Agencies may obtain copies of the application directly from the applicant. Each filing must be accompanied by proof of service on all persons listed on the service list prepared by the Commission in this proceeding, in accordance with 18 CFR 4.34(b), and 385.2010.

You may also register online at http://www.ferc.gov/docs-filing/esubscription.asp to be notified via e-mail of new filings and issuances related to this or other pending projects. For assistance, contact FERC Online Support.

n. A license applicant must file no later than 60 days following the date of issuance of this notice: (1) A copy of the water quality certification; (2) a copy of the request for certification, including proof of the date on which the certifying agency received the request; or (3) evidence of waiver of water quality certification.

Dated: August 26, 2011.
Kimberly D. Bose,
Secretary.

[FR Doc. 2011-22521 Filed 9-1-11; 8:45 am]

BILLING CODE 6717-01-P